Proclamation 9319 of September 10, 2015

Patriot Day and National Day of Service and Remembrance, 2015

By the President of the United States of America

A Proclamation

On September 11, 2001, America experienced the worst terrorist attack in her history when nearly 3,000 men, women, and children were taken from us, leaving their families and our Nation with a void that can never be filled. But those who brought hate to our shores and smoke to our skies did not expect our country to emerge stronger, and our beacons of hope and freedom to shine brighter as a result. In the years since, we have stood strong as one people—determined to further embolden our country's character with acts of endurance and strength; rebuilding and resilience; renewal and progress. In remembrance of the innocent victims who lost their lives and in honor of the families they left behind, let us continue to answer these heinous acts by serving our communities, lifting the lives of our fellow citizens, and spreading the hope that others tried to dim that day.

The compassion that rose in the hearts and minds of the American people on September 11 still serves as the ultimate rebuke to the evil of those who attacked us. First responders who risked and gave their lives to rescue others demonstrated the unwavering heroism that defines our great Nation. Volunteers donated time, money, and blood to ensure wounds gave way to healing and recovery. Young people, raised until then in a time of peace, stepped forward to serve and defend us, and meet the threats of our time. And people from across our country and the world joined together in the days that followed to stand up and turn toward one another with open arms, making of a tragedy something the terrorists could never abide—a tribute of hope over fear, and love over hate.

As we reflect on the lives we lost and pay tribute to the families who still live with extraordinary pain, let us resolve to continue embodying the American spirit that no act of terror can ever extinguish. I call on all Americans to observe this National Day of Service and Remembrance with acts of selflessness and charity. In doing so, we prove once again that the power of those who seek to harm and to destroy is never greater than our power to persevere and to build. I encourage everyone to visit www.Serve.gov to learn of the many opportunities available to give back to others and to reaffirm the fundamental truth that we are our brothers' and our sisters' keepers, and that we can forge a brighter future together.

Today, we continue our unfaltering march forward, enduring in the perennial optimism that drives us and brightening the light that the darkness of evil can never overcome. We remember and yearn for the presence of the beautiful lives lost, and we recommit to honoring their memories by shaping the days to come—in as stark a contrast as possible to those who took them from us—with courage, liberty, and love.

By a joint resolution approved December 18, 2001 (Public Law 107-89), the Congress has designated September 11 of each year as “Patriot Day,” and by Public Law 111-13, approved April 21, 2009, the Congress has requested the observance of September 11 as an annually recognized “National Day of Service and Remembrance.”

NOW, THEREFORE, I, BARACK OBAMA, President of the United States of America, do hereby proclaim September 11, 2015, as Patriot Day and National Day of Service and Remembrance. I call upon all departments, agencies, and instrumentalities of the United States to display the flag of the United States at half-staff on Patriot Day and National Day of Service and Remembrance in honor of the individuals who lost their lives on September 11, 2001. I invite the Governors of the United States and its Territories and interested organizations and individuals to join in this observance. I call upon the people of the United States to participate in community service in honor of those our Nation lost, to observe this day with appropriate ceremonies and activities, including remembrance services, and to observe a moment of silence beginning at 8:46 a.m. Eastern Daylight Time to honor the innocent victims who perished as a result of the terrorist attacks of September 11, 2001.

IN WITNESS WHEREOF, I have hereunto set my hand this tenth day of September, in the year of our Lord two thousand fifteen, and of the Independence of the United States of America the two hundred and fortieth.

[FR Doc. 2015-23302

Filed 9-14-15; 8:45 am]

Billing code 3295-F5